DEPARTMENT OF COMMERCE

Economic Development Administration

Proposed Information Collection; Comment Request; Award for Excellence in Economic Development

AGENCY: Economic Development Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 21, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patty Sheetz, Director, Legislative & Intergovernmental Affairs Division, Room 7816, Economic Development Administration, Washington, DC 20230, telephone (202) 482-5842.

SUPPLEMENTARY INFORMATION:

I. Abstract

The Economic Development Administration (EDA) provides a broad range of economic development assistance to help distressed communities design and implement effective economic development strategies. Part of this assistance includes disseminating information about best practices and encouraging collegial importance. In order to make an award selection, EDA must collect two kinds of information: (a) Identifying the nominee and contacts within the organization being nominated and (b) explaining why the nominee should be given the award. The information will be used to determine those applicants best meeting the pre-announced selection criteria. The use of a nomination form standardizes and limits the information collected as part of the nomination process. This makes the competition fair and eases any burden on applicants and reviewers alike. Participation in the competition is voluntary. The award is strictly honorary.

II. Method of Collection

The nomination form is downloadable off of EDA's Web site and can be faxed or submitted in hard copy to EDA.

III. Data

OMB Control Number: 0610-0101.

Form Number(s): None.

Type of Review: Regular submission.

Affected Public: State, local or Tribal Government and not-for-profit institutions.

Estimated Number of Respondents: 50.

Estimated Time Per Response: 3 hours.

Estimated Total Annual Burden Hours: 150.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 14, 2008.
Gwellnar Banks,
Management Analyst, Office of the Chief Information Officer.

[FR Doc. E8-3159 Filed 2-20-08; 8:45 am]

BILLING CODE 3510-34-P